DEPARTMENT OF ENERGY

Federal Energy Regulatory Commission

[Docket Nos. EC03-116-000, et al.]

NewCorp Resources Electric Cooperative, Inc., et al.; Electric Rate and Corporate Filings

July 31, 2003.

The following filings have been made with the Commission. The filings are listed in ascending order within each docket classification:

1. NewCorp Resources Electric Cooperative, Inc.

[Docket Nos. EC03-116-000 and ER03-1116-000]

Take notice that on July 25, 2003, NewCorp Resources Electric Cooperative, Inc. (NewCorp) tendered for filing with the Federal Energy Regulatory Commission (Commission) pursuant to Section 203 and 205 of the Federal Power Act, an application for approval of the transfer of certain assets from Cap Rock Energy, Inc. (CRE) to NewCorp. In addition, NewCorp proposes to change the service it provides to its wholesale customer from full requirements service under Tariff WP to transmission service under NewCorp's Open Access Transmission tariff, and also seeks approval of an administrative and maintenance services agreement. NewCorp states that it does not propose to increase its previously filed and accepted rates in connection with this filing. NewCorp proposes that these changes be allowed to take effect on September 1, 2003, and requests waiver of notice requirements to allow this effective date.

Comment Date: August 15, 2003.

2. Gilroy Energy Center, LLC, South Point Energy Center, LLC, Calpine Energy Services, L.P.

[Docket No. EC03-117-000]

Take notice that on July 25, 2003, Gilroy Energy Center, LLC, South Point Energy Center, LLC, and Calpine Energy Services, L.P. (Applicants) tendered for filing an application under section 203 of the Federal Power Act for approval of the disposition of jurisdictional facilities related to generation projects located in the States of California and Arizona in connection with the financing of certain generation facilities in California.

Comment Date: August 15, 2003.

3. MDU Resources Group, Inc.

[Docket No. ES03-41-000]

Take notice that on July 25, 2003, MDU Resources Group, Inc. (MDU) submitted an application pursuant to section 204 of the Federal Power Act seeking authorization to issue up to 2.6 million in additional shares of common stock, with a par value of $1.00.

MDU also requests a waiver from the Commission's competitive bidding and negotiated placement requirements at 18 CFR 34.2.

Comment Date: August 13, 2003.

4. NewCorp Resources Electric Cooperative, Inc.

[Docket No. ES03-42-000]

Take notice that on July 25, 2003, NewCorp Resources Electric Cooperative, Inc. (NewCorp) submitted an application pursuant to section 204 of the Federal Power Act seeking authorization to borrow $31.5 million under a loan from Beal Bank, S.S.B.

NewCorp also requests a waiver from the Commission's competitive bidding and negotiated placement requirements at 18 CFR 34.2.

Comment Date: August 15, 2003.

5. Aquila, Inc.

[Docket No. ES03-43-000]

Take notice that on July 25, 2003, Aquila, Inc. (Aquila) submitted an application pursuant to section 204 of the Federal Power Act seeking authorization to issue (1) no more than $150 million of long-term convertible debt securities and (2) up to $100 million of shares of common stock of Aquila.

Aquila also requests a waiver from the Commission's competitive bidding and negotiated placement requirements at 18 CFR 34.2.

Comment Date: August 18, 2003.

Standard Paragraph

Any person desiring to intervene or to protest this filing should file with the Federal Energy Regulatory Commission, 888 First Street NE., Washington, DC 20426, in accordance with Rules 211 and 214 of the Commission's Rules of Practice and Procedure (18 CFR 385.211 and 385.214). Protests will be considered by the Commission in determining the appropriate action to be taken, but will not serve to make protestants parties t the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-20347 Filed 8-8-03; 8:45 am]

BILLING CODE 6717-01-P